DEPARTMENT OF THE INTERIOR

Fish and Wildlife Service

[FWS-R8-ES-2009-N127; 81420-1113-0000-F3]

Safe Harbor Agreement for the City of Elk Grove's Shed B and Whitelock Parkway Drainage Corridors, in Sacramento County, CA

AGENCY: Fish and Wildlife Service, Interior.

ACTION: Notice of availability; receipt of application and proposed safe harbor agreement.

SUMMARY: This notice advises the public that the City of Elk Grove (applicant) has applied to the U.S. Fish and Wildlife Service (Service) for an Enhancement of Survival Permit through a Safe Harbor Agreement (Agreement) for the Federally threatened species valley elderberry longhorn beetle (Desmocerus californicus dimorphus) and the Federally threatened giant garter snake (Thamnophis gigas). The Agreement is available for public comment (see below).

DATES: Written comments should be received on or before July 30, 2009.

ADDRESSES: Comments should be addressed to Mr. Rick Kuyper, U.S. Fish and Wildlife Service, Sacramento Fish and Wildlife Office, 2800 Cottage Way, W-2605, Sacramento, CA 95825. Written comments may also be sent by facsimile to (916) 414-6713.

FOR FURTHER INFORMATION CONTACT: Mr. Rick Kuyper, Sacramento Fish and Wildlife Office (see ADDRESSES); telephone: (916) 414-6600.

SUPPLEMENTARY INFORMATION:

Availability of Documents

You may obtain copies of the documents for review by contacting the individual named above. You may also make an appointment to view the documents at the above address during normal business hours.

Background

Under a Safe Harbor Agreement, participating landowners voluntarily undertake management activities on their property to enhance, restore, or maintain habitat benefiting species listed under the Act (16 U.S.C. 1531 et seq.). Safe Harbor Agreements, and the subsequent enhancement of survival permit that is issued pursuant to Section 10(a)(1)(A) of the Endangered Species Act of 1973, as amended (Act), encourage private and other non-Federal property owners to implement conservation efforts for listed species by assuring property owners that they will not be subjected to increased property use restrictions as a result of their efforts to attract listed species to their property, or to increase the numbers or distribution of listed species already on their property. Application requirements and issuance criteria for enhancement of survival permits through Safe Harbor Agreements are found in the Code of Federal Regulations (CFR) at 50 CFR 17.22(c) and 17.32(c).

We have worked with the applicant to develop the proposed Agreement for the conservation of the valley elderberry longhorn beetle and the giant garter snake on lands owned and managed by the applicant in Sacramento County, California. The property subject to this Agreement (Enrolled Property) consists of approximately 4.03 miles of drainage corridor (i.e., Shed B Channel, tributary to Shed B Channel, and Whitelock Parkway Channel) in the City of Elk Grove, Sacramento County, California. The Enrolled Property consists of the existing drainage corridor that extends west from Bruceville and Poppy Ridge roads to Franklin Boulevard (Shed B Channel), existing drainage corridor that extends from Bruceville Road to Bighorn Boulevard (Whitelock Parkway Channel), and a tributary of the Shed B Channel that is located between the main channel stem and Franklin High Road approximately 0.5 mile south of Whitelock Parkway. Development within the surrounding area consists of single-family homes and a school. Prior to the construction of the Shed B and Whitelock Parkway drainage channels, no suitable habitat for the giant garter snake or valley elderberry longhorn beetle existed. The current uses of the drainage corridors are flood control and water quality treatment. The drainage corridors drain directly into the Service's Stone Lakes National Wildlife Refuge (approximately 2.1 miles downstream).

The applicant proposes to allow for the establishment of suitable breeding and dispersal habitat for the two Federally listed species on the Enrolled Property and to implement avoidance and minimization measures during the maintenance activities described in the paragraph below. We expect that the proposed activities will benefit these species due to an increase in dispersal opportunities throughout the Enrolled Property, thus resulting in a net conservation benefit for the two Federally listed species. The Agreement includes a monitoring component that will aid the applicant in developing management strategies that can ensure the successful enhancement and management of breeding and dispersal habitat for the two Federally listed species. The proposed duration of the Agreement and the enhancement of survival permit is 30 years.

The Agreement states that incidental take of the two Federally listed species may occur during maintenance activities within the drainage corridors, including: debris or obstruction removal; silt, sand, or sediment removal; vegetation control in channels; repair of previous erosion control work; minor erosion control work; bridge washing and painting; and geotechnical sampling.

Upon approval of this Agreement, and consistent with the our Safe Harbor Policy published in the Federal Register on June 17, 1999 (64 FR 32717), we would issue a permit to the applicant authorizing take of the valley elderberry longhorn beetle and the giant garter snake incidental to the implementation of the management activities specified in the Agreement, incidental to other lawful uses of the Enrolled Property including normal, routine land management activities, and to return to pre-Agreement conditions (baseline).

Public Review and Comments

We have made a preliminary determination that the proposed Agreement and permit application are eligible for categorical exclusion under the National Environmental Policy Act of 1969 (NEPA). We explain the basis for this determination in an Environmental Action Statement that is also available for public review.

Individuals wishing copies of our Environmental Action Statement, and/or copies of the full text of the Agreement, including a map of the proposed permit area, should contact the office and personnel listed in the ADDRESSES section above.

Before including your address, phone number, e-mail address, or other personal identifying information in your comment, you should be aware that your entire comment—including your personal identifying information—may be made publicly available at any time. While you can ask us in your comment to withhold your personal identifying information from public review, we cannot guarantee that we will be able to do so.

We will evaluate this permit application, associated documents, and comments submitted thereon to determine whether the permit application meets the requirements of section 10(a) of the Act and NEPA regulations. If we determine that the requirements are met, we will sign the proposed Agreement and issue an enhancement of survival permit under section 10(a)(1)(A) of the Act to the applicant for take of the valley elderberry longhorn beetle and the giant garter snake incidental to otherwise lawful activities in accordance with the terms of the Agreement. We will not make our final decision until after the end of the 30-day comment period and will fully consider all comments received during the comment period.

We provide this notice pursuant to section 10(c) of the Act and pursuant to implementing regulations for NEPA (40 CFR 1506.6).

Dated: June 23, 2009.
Susan K. Moore,
Field Supervisor, Sacramento Fish and Wildlife Office, Sacramento, California.

[FR Doc. E9-15395 Filed 6-29-09; 8:45 am]

BILLING CODE 4310-55-P